DEPARTMENT OF COMMERCE

Foreign-Trade Zones Board

[Docket No. 54-2002]

Foreign-Trade Zone 202: Application for Expansion and Reorganization Amendment of Application

Notice is hereby given that the application of the Board of Harbor Commissioners of the City of Los Angeles, grantee of FTZ 202, for authority to expand and reorganize FTZ 202 in the Los Angeles, California, area (Doc. 54-2002, 67 FR 72643, 12/6/02), has been amended to include a parcel (42 acres) within Proposed Site 20 at the Park Mira Loma West, which was inadvertently omitted. This increases the total acreage at this site from 531 acres to 573 acres. The application otherwise remains unchanged.

Comments on the change may be submitted to the Foreign-Trade Zones Board, U.S. Department of Commerce, FCB-Suite 4100W, 1401 Constitution Avenue, NW., Washington, DC 20230, by April 25, 2003.

Dated: April 2, 2003.
Dennis Puccinelli,
Executive Secretary.

[FR Doc. 03-8671 Filed 4-8-03; 8:45 am]

BILLING CODE 3510-DS-P